NUCLEAR REGULATORY COMMISSION

Sunshine Act Meeting

Agency Holding the Meeting: Nuclear Regulatory Commission

DATE: Weeks of October 29, November 5, 12, 19, 26, December 3, 2001.

PLACE: Commissioners' Conference Room, 11555 Rockville Pike, Rockville, Maryland.

STATUS: Public and Closed.

MATTERS TO BE CONSIDERED:

Week of October 29, 2001

There are no meetings scheduled for the week of October 29, 2001.

Week of November 5, 2001—Tentative

There are no meetings scheduled for the week of November 5, 2001.

Week of November 12, 2001—Tentative

Thursday, November 15, 2001

2 p.m.

Discussion of Intragovernmental Issues (Closed-Ex. 1).

Week of November 19, 2001—Tentative

There are no meetings scheduled for the Week of November 19, 2001.

Week of November 26, 2001—Tentative

There are no meetings scheduled for the Week of November 26, 2001.

Week of December 3, 2001—Tentative

Monday, December 3, 2001

2 p.m.

Briefing on Status of Steam Generator Action Plan (Public Meeting) (Contact: maitri Banerjee, 301-415-2277).

Wednesday, December 5, 2001

1:25 p.m.

Affirmation Session (Public Meeting) (if needed).

1:30 p.m.

Meeting with Advisory Committee on Reactor Safeguards (ACRS) (Public Meeting) (Contact: John Larkins, 301-415-7360).

The schedule for Commission meetings is subject to change on short notice. To verify the status of meetings call (recording)—(301) 415-1292. Contact person for more information: David Louis Gamberoni (301) 415-1651.

Additional Information:

By a vote of 5-0 on October 19, the Commission determined pursuant to U.S.C. 552b(e) and § 9.107(a) of the Commission's rules that “Discussion of Intragovernmental Issues (Closed-Ex. 1 & 9)” be held on October 22, and on less than one week's notice to the public.

The NRC Commission Meeting Schedule can be found on the Internet at: http://www.nrc.gov/SECY/smj/schedule.htm.

This notice is distributed by mail to several hundred subscribers; if you no longer wish to receive it, or would like to be added to the distribution, please contact the Office of the Secretary, Washington, DC 20555 (301-415-1969). In addition, distribution of this meeting notice over the Internet system is available. If you are interested in receiving this commission meeting schedule electronically, please send an electronic message to dkw@nrc.gov.

Dated: October 25, 2001.
David Louis Gamberoni,
Technical Coordinator, Office of the Secretary.

[FR Doc. 01-27522 Filed 10-29-01; 8:45 am]

BILLING CODE 7590-01-M